DEPARTMENT OF COMMERCE

Foreign-Trade Zones Board

[Order No. 1823]

Reorganization and Expansion of Foreign-Trade Zone 109 Under Alternative Site Framework, Jefferson County, NY

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the County of Jefferson, New York, grantee of Foreign-Trade Zone 109, submitted an application to the Board (FTZ Docket 70-2011, filed 11/07/2011) for authority to reorganize and expand under the ASF with a service area of Jefferson County, New York, adjacent to the Alexandria Bay U.S. Customs and Border Protection port of entry, FTZ 109's existing Sites 1 and new Sites 3 and 4 would be categorized as magnet sites, and existing Site 2 would be removed from the zone project;

Whereas, notice inviting public comment was given in the Federal Register (76 FR 70110, 11/10/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 109 under the alternative site framework is approved, subject to the FTZ Act and the Board's regulations, including Section 400.28, to the Board's standard 2,000-acre activation limit for the overall general-purpose zone project, to an ASF sunset provision for magnet sites that would terminate authority for Site 3 if not activated by April 30, 2017 and Site 4 if not activated by April 30, 2020.

Signed at Washington, DC, this 16th day of April 2012.
Paul Piquado,
Assistant Secretary of Commerce for Import Administration, Alternate Chairman, Foreign-Trade Zones Board.
Attest:

Andrew McGilvray,
Executive Secretary.

[FR Doc. 2012-9823 Filed 4-23-12; 8:45 am]

BILLING CODE P